DEPARTMENT OF ENERGY

Federal Energy Regulatory Commission

[Docket No. RP04-332-000]

Guardian Pipeline, L.L.C.; Notice of Tariff Filing

June 18, 2004.

Take notice that on June 15, 2004, Guardian Pipeline, L.L.C. (Guardian) tendered for filing as part of its FERC Gas Tariff, Original Volume No. 1, Original Sheet No. 142A; and Original Sheet No. 142B, proposed to be effective July 15, 2004.

Guardian states that the proposed changes would provide a mechanism for the allocation of capacity that becomes available as a result of changed operational conditions on the Guardian Pipeline, including changes resulting from modified pressure obligations at various delivery points on the Guardian Pipeline. Guardian states that such changes can result in an increase in the operating capacity of the Guardian Pipeline. Guardian's further notes that its tariff does not currently have a mechanism to address, on a nondiscriminatory basis, additional capacity that becomes available due to a Shipper's agreement to modify the delivery pressure to which it is otherwise entitled.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Magalie R. Salas,
Secretary.

[FR Doc. E4-1427 Filed 6-25-04; 8:45 am]

BILLING CODE 6717-01-P